DEPARTMENT OF TRANSPORTATION

National Highway Traffic Safety Administration

49 CFR Part 571

[Docket No. NHTSA-2002-12065]

RIN 2127-AI88

Federal Motor Vehicle Safety Standards; Child Restraint Systems

AGENCY: National Highway Traffic Safety Administration (NHTSA), DOT.

ACTION: Interim final rule; request for comments.

SUMMARY: This document amends our child restraint standard to facilitate the safe transportation of preschool and special needs children through the manufacture and use of vests that hold the children in place during a crash. Vests and other types of child restraints are currently prohibited by the standard from having any means designed for attaching the system to a vehicle seat back. Effective immediately, all vests that are manufactured for use on school bus seats are excluded from the prohibition. Effective February 1, 2003, the exclusion is limited to the vests that bear a warning label informing users that the vest must be used only on school bus seats, and that the entire seat directly behind the child wearing the seat-mounted vest must be either unoccupied or occupied by restrained passengers. The agency also requests comments on this amendment.

This document responds to a petition for rulemaking from a vest manufacturer. NHTSA has determined that the requested amendment would facilitate the safe transportation of preschool and special needs children.

NHTSA is making the amendment final by this document on an interim basis because of the pressing need to permit, early in the school year, the manufacture and sale of restraints that can be used to transport these children. The exclusion terminates on December 1, 2003. After reviewing the comments received on this document, NHTSA will decide whether to exclude these vests from the prohibition on a permanent basis.

DATES: This rule is effective October 22, 2002 and expires on December 1, 2003. Comments must be received by December 23, 2002.

ADDRESSES: You may submit your comments in writing to: Docket Management, Room PL-401, 400 Seventh Street, SW., Washington, DC 20590. Alternatively, you may submit your comments electronically by logging onto the Docket Management System Web site at http://dms.dot.gov. Click on “Help & Information” or “Help/Info” to view instructions for filing your comments electronically. Regardless of how you submit your comments, you should mention the docket number of this document. You may call Docket Management at 202-366-9324. You may visit the Docket from 10 a.m. to 5 p.m., Monday through Friday.

FOR FURTHER INFORMATION CONTACT: For nonlegal issues: Mr. Tewabe Asebe, Office of Rulemaking, NVS-113, telephone (202) 366-2365. For legal issues: Ms. Deirdre Fujita, Office of Chief Counsel, NCC-112, telephone (202) 366-2992. Both can be reached at the National Highway Traffic Safety Administration, 400 Seventh St., SW., Washington, DC 20590.

SUPPLEMENTARY INFORMATION:

Table of Contents

I. Introduction

II. Background

III. Issues

a. Safety

b. Amendments

c. Interim final justification

IV. Rulemaking Analyses and Notices

a. Executive Order 12866 and DOT Regulatory Policies and Procedures

b. Regulatory Flexibility Act

c. Paperwork Reduction Act

d. National Environmental Policy Act

e. Executive Order 13132 (Federalism)

f. Civil Justice Reform

g. National Technology Transfer and Advancement Act

h. Unfunded Mandates Reform Act

V. Submission of Comments

I. Introduction

This document amends Standard No. 213, “Child Restraint Systems” (49 CFR § 571.213), to modify S5.3.1 of the standard on an interim basis. This document also solicits comments on this amendment.

This rulemaking involves a type of child restraint system that is commonly known as a “vest.” A vest restraint system consists primarily of flexible material, such as straps, webbing or similar material, and that does not include a rigid seating structure for the child. Vest restraints are also called “harnesses.” Standard No. 213 uses the term “harness” in specifying requirements for this type of child restraint system. We consider the terms “vest” and “harness” to be interchangeable. We use the term “vest” in this notice to the extent that a manufacturer uses the term in naming its product, or when a member of the public uses the term to describe a restraint. In the regulatory text for this interim final rule, we have a definition of “harness,” since “harness” is already used in the standard rather than “vest.” Again, however, the terms are synonymous.

II. Background

On August 31, 2001, NHTSA issued a letter to Ms. Kathy Durkin (Hold Me Tight Products), interpreting Standard No. 213 with respect to a passenger support vest for use on school buses. Ms. Durkin had asked whether her product was a child restraint. The product was a vest that had straps that “wrap the seat back and are independent of the seat belt.” In the course of explaining that the product was a “child restraint system” subject to the standard, NHTSA discussed S5.3.1, which states: “Except for components designed to attach to a child restraint anchorage system, each add-on child restraint system shall not have any means designed for attaching the system to a vehicle seat cushion or vehicle seat back * * *.” Child restraints are prohibited from attaching to the vehicle seat back because they will load the seat back in a crash. The seat back might not be able to withstand the additional load applied to it by an attached, occupied child restraint. NHTSA concluded the letter by stating that child restraints that are designed to attach to a vehicle seat back do not meet S5.3.1.

After it issued the interpretation letter, NHTSA was informed by many school districts and school bus operators that they were already using products that wrap around the vehicle seat back (“seat-mounted vests”). They told NHTSA that the vests were widely used to transport many different populations of children, including preschoolers,¹ children who need help sitting upright, and children who need to be physically restrained because of physical or behavioral needs. The vests were popular with the pupil transportation administrators and operators because the restraints do not use a seat belt to attach to the vehicle. Thus, they can be used on large, compartmentalized school buses notwithstanding the absence of seat belts. (Compartmentalization provides passenger crash protection without the need for seat belts by surrounding passengers with sturdy, high-backed and well-padded seats.) The administrators and operators said that if seat-mounted vests were unavailable, they would have great difficulty in transporting their children. They might have to replace some of the bus seats in their fleet with seats that have belts, purchase additional school buses, or purchase conventional child safety seats (and train personnel on installing them and find storage space for storing them), all at considerable cost. Some indicated that if seat-mounted vests were unavailable, they might not restrain their children with any kind of child restraint system at all.

¹ NHTSA recommends that preschool age children transported in school buses be transported in child restraint systems. “Guideline for the Safe Transportation of Pre-School Age Children in School Buses,” NHTSA, February 1999.

On March 4, 2002, Ms. Constance S. Murray, president of E-Z-ON, submitted a petition for rulemaking requesting NHTSA to amend S5.3.1 of Standard No. 213 to allow the manufacture and sale of seat-mounted vests for school buses. Petitioner informed NHTSA that E-Z-ON has been selling its seat-mounted vest, the Camwrap, since 1982. E-Z-ON estimated that between January 1, 1988 and June 25, 2002, it sold more than 230,000 Camwraps.

Petitioner stated that school districts and pupil transporters that have purchased seat-mounted vests are in danger of losing funds and incurring additional costs because of the vests' inability to meet S5.3.1, even though the industry “has used Seat-Mounted Safety Vests and Harnesses to safely transport children of all sizes and physical and behavioral needs. * * * Seat-Mounted CRS [child restraint systems] offer a safe, easy and affordable way to add upper body support and safe restraint to children on school buses.” Petitioner also submitted a document that summarized the results of an on-line survey that E-Z-ON apparently conducted to assess respondents' use of seat-mounted vests or harnesses in school buses, respondents' knowledge of a school bus crash in which a seat-mounted vest or harness was being used and whether a child properly secured in a seat-mounted vest or harness was seriously injured, and whether seat-mounted vests or harnesses should be “removed from school buses.” (Petitioner did not explain the methodology of the survey, e.g., who was contacted to respond, selection of respondents, etc., and did not provide the actual results.) According to the petitioner, there were 61 respondents, 54 of whom currently use seat-mounted vests or harnesses in school buses. Petitioner stated that four had personal knowledge of a school bus crash in which a seat-mounted vest or harness was used and that there were no injuries reported or described.

Subsequent to NHTSA's receipt of the petition, a number of pupil transporters wrote identical “petitions” to NHTSA in support of that of E-Z-ON. These were Joy E. Winnie, Marlon Carter, Richard Rodriquez, Marcia Hahn, and Kathy Potts. Copies of all of these petitions have been placed in the docket.

III. Issues

a. Safety

NHTSA believes that sanctioning the manufacture and sale of seat-mounted vests for use on school buses will enhance the safe transportation of preschool and special needs children, provided that certain conditions are met to ensure that the seat back would not be overloaded and subject to failure. These conditions are that the entire school bus seat directly rearward of a child restrained in a seat-mounted vest is vacant or occupied by restrained children. This interim final rule is premised on those conditions being met by way of a warning label on the vests, informing school administrators and school bus drivers about those conditions.

Between 1996 and 1998, the agency conducted a series of sled tests on safety vests at the agency's Vehicle Research and Test Center (VRTC). The tests were conducted as part of the research program that developed the agency's guideline for safely transporting preschool age children in school buses (footnote 1, supra). The testing program evaluated the performance of E-Z-ON's Camwrap (a seat-mounted vest) and other restraints. A summary report of the tests titled: “School Bus Compartmentalization and Preschool Age Transportation—Vest and Harness Test Results” is available in Docket NHTSA-1998-4573-51.

The tests were conducted using the FMVSS No. 213 crash pulse (30 mile per hour (mph) velocity change with a peak acceleration of 24 g). This pulse represented a 30 mph small school bus crash with a vehicle of comparable mass traveling at the same speed. Hybrid II 3-year-old child dummies were restrained in the vests in a front school bus bench seat (front row), with Hybrid III 50th percentile male dummies seated in a bench seat immediately behind the front row (“second row”). The male dummies weighed approximately 172 pounds. The male dummies in the second row were belted in some tests, and unbelted in others. The Camwrap was wrapped around the school bus seat back (per E-Z-ON's installation instructions). The vests performed adequately when the male dummies in the second row were belted. Head injury criterion (HIC) values for the 3-year-old dummies restrained in the vests were below 800. However, in the tests with the unbelted male dummies, the HIC values for three out of four child dummies were above 1000. The seats were standard non-reinforced school bus seats. The test results are summarized in the table below:

VRTC Test Results for HIC Values for Hybrid II 3-Year-Old Dummies Restrained by Harnesses With Camwrap
Rear seat 50th percentile male dummies | Standard school bus seat spacing (inches) | Dummy seating position (HIC values): Aisle | Dummy seating position (HIC values): Sidewall
Unbelted | 20 24 | 1460 1381 | 2137 483
Belted | 20 24 | 722 219 | 794 185

b. Amendments

The VRTC test data indicate that seat-mounted vests can be a suitable means of restraining children on school buses, provided that the seats behind a child restrained in the vest are empty or are occupied by restrained passengers.² NHTSA believes that school bus operators and bus transportation administrators can exercise sufficient oversight over the seating of children on school buses to ensure that these seats are empty or that their occupants are restrained.

² This amendment affects seat-mounted vests that are recommended for children weighing up to 50 pounds (maximum weight limit covered by Standard No. 213). E-Z-On states that its vest is designed for children and adults who weigh between 20 and 164 pounds. Our test data do not address the performance of seat-mounted vests when restraining children above 40 pounds.

This rule therefore excludes vests (harnesses) manufactured and sold for use on school bus seats from the requirement of S5.3.1, thereby sanctioning the manufacture and sale of seat-mounted vests for pupil and Head Start transportation. Effective February 1, 2003, the devices must bear a permanent warning label to be excluded. See Figure 12, infra. The label must be placed on the part of the restraint that attaches the vest to the vehicle seat back, and must be visible when the harness is installed. It must contain a pictogram and the following statements: “WARNING! This restraint must only be used on school bus seats. Entire seat directly behind must be unoccupied or have restrained occupants.” Comments are requested on the requirements for the label.

The label must state that the restraint is manufactured for use only on “school bus seats” rather than on “school buses.” A final rule issued by the Department of Health and Human Services on January 18, 2001 (66 FR 5296) requires Head Start agencies to transport Head Start children in vehicles built to Federal school bus structural standards beginning in 2006. These vehicles must be school buses, or alternate vehicles that have all the structural features of a school bus except for certain school bus crash avoidance features (e.g., the flashing lights and stop arms of a school bus). The reference in today's rule to “school bus seats” accommodates the possible use of seat-mounted vests on these alternate vehicles, which are not school buses, but which have school bus seats. A school bus seat is a seat in a vehicle that meets FMVSS No. 222, “School Bus Seating and Crash Protection” (49 CFR 571.222).

To implement the exclusion, we are adding a definition of “harness” to the standard. The definition of a harness is “a combination pelvic and upper torso child restraint system that consists primarily of flexible material, such as straps, webbing or similar material, and that does not include a rigid seating structure for the child.” In developing the definition, we considered the definition of a Type 3 seat belt assembly that Standard No. 209 once had.³ The definition was as follows: “a combination pelvic and upper torso restraint for persons weighing not more than 50 pounds or 23 kilograms and capable of sitting upright by themselves, that is children in the approximate range of 8 months to 6 years.” As noted previously, we consider the term “harness,” to be interchangeable with the term “vest,” which is commonly used to describe seat-mounted restraints.

³ The definition was removed in 1981, when the requirements for child harnesses were moved to Standard No. 213.

This rule also makes several other amendments to Standard No. 213 relating to the exclusion. It amends S5.3.2 and an accompanying table in Standard No. 213, which specify the means by which child restraint systems must be capable of being attached to a vehicle seat. The table in S5.3.2 is modified to provide that harnesses designed for use on school bus seats be capable of attaching to the bus seat by a seat mount. This interim final rule also amends the table to S5.1.3.1(a) of the standard, which specifies the head and knee excursion requirements that add-on child restraints must meet. The table showed that harnesses must meet the requirements when attached to the test seat assembly using a lap belt and tether. The table is amended for harnesses for use on school bus seats, to show that these restraints are attached to the seat assembly using the harness's seat back mount.

In addition, the dynamic test procedures of the standard are amended to specify procedures for testing seat-mounted harnesses. The procedures had reflected attachment of add-on child restraints by a lap belt, lap belt and tether, lap and shoulder belt, and child restraint anchorage system. Seat-mounted harnesses are not attached by those means. Accordingly, S6.1.2(a)(1)(i)(A) and S6.1.2(d)(1)(ii) are revised to include specifications appropriate for the manner in which seat-mounted harnesses are attached. Comments are requested on these revisions.

This rule also amends Standard No. 213 by adding a requirement (S5.6.1.11) that beginning February 1, 2003, the printed instructions accompanying these harnesses must include the warning statements described above. (These statements are: “WARNING! This restraint must only be used on school bus seats. Entire seat directly behind must be unoccupied or have restrained occupants.”) The purpose of this requirement is to increase the likelihood that the seat back will not be overloaded during a frontal crash by unrestrained passengers sitting in the seat immediately behind the child restrained in a harness.

c. Interim Final Justification

This amendment will relieve a restriction currently imposed by Standard No. 213 and will facilitate the transportation of preschool and special needs children. With the start of the new school year, many pupil transportation administrators need to transport preschool, Head Start and special needs children on school buses. For many administrators, there is no reasonable alternative to restraining these children other than by means of seat-mounted vests. Various pupil transportation administrators have stated that they will not use the seat-mounted vests that they have already purchased unless and until the standard is amended. Others want to purchase new seat-mounted vests to restrain these children, but will not do so unless the standard is amended. Accordingly, NHTSA has determined that it is in the public interest to make the changes effective immediately on an interim basis (until December 1, 2003). After reviewing the comments received on this document, NHTSA will decide whether to amend the standard permanently.

IV. Rulemaking Analyses and Notices

a. Executive Order 12866 and DOT Regulatory Policies and Procedures

NHTSA has considered the impact of this rulemaking action under E.O. 12866 and the Department of Transportation's regulatory policies and procedures. This rulemaking document was not reviewed under E.O. 12866, “Regulatory Planning and Review.” This action has been determined to be “nonsignificant” under the Department of Transportation's regulatory policies and procedures. The agency concludes that the impacts of the amendments are so minimal that preparation of a full regulatory evaluation is not required. The rule will not impose any new requirements or costs on manufacturers, but instead will permit manufacturers to produce a type of harness if the harness bears a label regarding how the restraint should be used.

b. Regulatory Flexibility Act

NHTSA has also considered the impacts of this document under the Regulatory Flexibility Act. I hereby certify that this rule does not have a significant economic impact on a substantial number of small entities. The rule will not impose any new requirements or costs on manufacturers, but instead will permit manufacturers to produce a type of harness if the harness bears a label regarding how the restraint should be used. NHTSA has learned of two harness restraint manufacturers, both of which are small businesses. The agency believes that this rule will not have a significant impact on these businesses. Adding a warning label to the harness strap would cost approximately eight cents per device. This rule enables the sale of seat-mounted harnesses to school districts and to other pupil transportation providers. Since the cost of the label is minimal, purchasers will not be substantially affected by the rule.

c. Paperwork Reduction Act

Under the Paperwork Reduction Act of 1995, a person is not required to respond to a collection of information by a Federal agency unless the collection displays a valid OMB control number. This rule does not contain any collection of information requirements requiring review under the Paperwork Reduction Act.

d. National Environmental Policy Act

NHTSA has also analyzed this rule under the National Environmental Policy Act and determined that it will not have a significant impact on the human environment.

e. Executive Order 13132 (Federalism)

Executive Order 13132 requires NHTSA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, the agency may not issue a regulation with Federalism implications, that imposes substantial direct compliance costs, and that is not required by statute, unless the Federal government provides the funds necessary to pay the direct compliance costs incurred by State and local governments, the agency consults with State and local governments, or the agency consults with State and local officials early in the process of developing the proposed regulation. NHTSA also may not issue a regulation with Federalism implications and that preempts State law unless the agency consults with State and local officials early in the process of developing the proposed regulation.

We have analyzed this interim rule in accordance with the principles and criteria set forth in Executive Order 13132 and have determined that this rule does not have sufficient Federal implications to warrant consultation with State and local officials or the preparation of a Federalism summary impact statement. The rule will not have any substantial impact on the States, or on the current Federal-State relationship, or on the current distribution of power and responsibilities among the various local officials.

f. Civil Justice Reform

This rule will not have any retroactive effect. A petition for reconsideration or other administrative proceeding will not be a prerequisite to an action seeking judicial review of this rule. This rule will not preempt the states from adopting laws or regulations on the same subject, except that it will preempt a state regulation that is in actual conflict with the Federal regulation or makes compliance with the Federal regulation impossible or interferes with the implementation of the Federal statute.

g. National Technology Transfer and Advancement Act

Section 12(d) of the National Technology Transfer and Advancement Act of 1995 (NTTAA), Public Law 104-113, section 12(d) (15 U.S.C. 272) directs us to use voluntary consensus standards in regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs us to provide Congress, through OMB, explanations when we decide not to use available and applicable voluntary consensus standards.

The agency searched for, but did not find any voluntary consensus standards relevant to this final rule.

h. Unfunded Mandates Reform Act

Section 202 of the Unfunded Mandates Reform Act of 1995 (UMRA) requires Federal agencies to prepare a written assessment of the costs, benefits, and other effects of proposed or final rules that include a Federal mandate likely to result in the expenditure by State, local, or tribal governments, in the aggregate, or by the private sector, of more than $ 100 million in any one year (adjusted for inflation with base year of 1995). Before promulgating a rule for which a written statement is needed, section 205 of the UMRA generally requires NHTSA to identify and consider a reasonable number of regulatory alternatives and adopt the least costly, most cost-effective, or least burdensome alternative that achieves the objectives of the rule. The provisions of section 205 do not apply when they are inconsistent with applicable law. Moreover, section 205 allows NHTSA to adopt an alternative other than the least costly, most cost-effective, or least burdensome alternative if the agency publishes with the final rule an explanation why that alternative was not adopted. This interim final rule will not impose any unfunded mandates under the Unfunded Mandates Reform Act of 1995. This rule will not result in costs of $100 million or more to either State, local, or tribal governments, in the aggregate, or to the private sector. Thus, this rule is not subject to the requirements of sections 202 and 205 of the UMRA.

V. Submission of Comments

How Can I Influence NHTSA's Thinking on This Rule?

In developing this interim final rule, we tried to address the concerns of all our stakeholders. Your comments will help us improve this rulemaking action. We invite you to provide different views on the approaches we adopted, new approaches we haven't considered, new data, how this interim rule may affect you, or other relevant information. We welcome your views on all aspects of this interim final rule, but request comments on specific issues throughout this document. Your comments will be most effective if you follow the suggestions below:

—Explain your views and reasoning as clearly as possible.

—Provide solid technical and cost data to support your views.

—If you estimate potential costs, explain how you arrived at the estimate.

—Tell us which parts of the interim final rule you support, as well as those with which you disagree.

—Provide specific examples to illustrate your concerns.

—Offer specific alternatives.

—Refer your comments to specific sections of the document, such as the units or page numbers of the preamble, or the regulatory sections.

—Be sure to include the name, date, and docket number with your comments.

How Do I Prepare and Submit Comments?

Your comments must be written and in English. To ensure that your comments are correctly filed in the Docket, please include the docket number of this document in your comments.

Your comments must not be more than 15 pages long (49 CFR § 553.21). We established this limit to encourage you to write your primary comments in a concise fashion. However, you may attach necessary additional documents to your comments. There is no limit on the length of the attachments.

Please submit two copies of your comments, including the attachments, to Docket Management at the address given above under ADDRESSES.

Comments may also be submitted to the docket electronically by logging onto the Dockets Management System Web Site at Click on “Help & Information” or “Help/Info” to obtain instructions for filing the document electronically.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR part 512.)

Will the Agency Consider Late Comments?

We will consider all comments that Docket Management receives before the close of business on the comment closing date indicated above under DATES. To the extent possible, we will also consider comments that Docket Management receives after that date. If Docket Management receives a comment too late for us to consider it in developing a final rule (assuming that one is issued), we will consider that comment as an informal suggestion for future rulemaking action.

How Can I Read the Comments Submitted by Other People?

You may read the comments received by Docket Management at the address given above under ADDRESSES. The hours of the Docket are indicated above in the same location.

You may also see the comments on the Internet. To read the comments on the Internet, take the following steps:

(1) Go to the Docket Management System (DMS) Web page of the Department of Transportation (http://dms.dot.gov/).

(2) On that page, click on “search.”

(3) On the next page (http://dms.dot.gov/search/), type in the four-digit docket number shown at the beginning of this document. Example: If the docket number were “NHTSA-2002-1234,” you would type “1234.” After typing the docket number, click on “search.”

(4) On the next page, which contains docket summary information for the docket you selected, click on the desired comments. You may download the comments. However, since the comments are imaged documents, instead of word processing documents, the downloaded comments are not word searchable.

Please note that even after the comment closing date, we will continue to file relevant information in the Docket as it becomes available. Further, some people may submit late comments. Accordingly, we recommend that you periodically check the Docket for new material. Upon receiving the comments, the docket supervisor will return the postcard by mail.

List of Subjects in 49 CFR Part 571

Motor vehicle safety, Reporting and recordkeeping requirements, Tires.

PART 571—[AMENDED]

In consideration of the foregoing, NHTSA amends 49 CFR part 571 as set forth below.

1. The authority citation for Part 571 continues to read as follows:

Authority: 49 U.S.C. 322, 30111, 30115, 30117 and 30166; delegation of authority at 49 CFR 1.50.

§ 571.213 [Amended]

2. Section 571.213 is amended by:

(a) Amending S4 by adding, in alphabetical order, a definition of “harness”;

(b) Revising the “Table to S5.1.3.1(a)-Add-On Forward-Facing Child Restraints,” and revising S5.3.1 and S5.3.2 (including the table in S5.3.2);

(c) Adding S5.6.1.11;

(d) Revising S6.1.2(a)(1)(i)(A) and S6.1.2(d)(1)(ii); and

(e) Adding Figure 12 at the end of § 571.213.

The revised and added sections read as follows:

§ 571.213 Standard No. 213

* * * * *

S4. Definitions.

* * * * *

Harness means a combination pelvic and upper torso child restraint system that consists primarily of flexible material, such as straps, webbing or similar material, and that does not include a rigid seating structure for the child.

* * * * *

S5.1.3.1 * * *

Table to S5.1.3.1(a)—Add-On Forward-Facing Child Restraints
When this type of child restraint | Is tested in accordance with— | These excursion limits apply | Explanatory note: In the test specified in 2nd column, the child restraint is attached to the test seat assembly in the manner described below, subject to certain conditions
Harnesses, backless booster seats and restraints designed for use by physically handicapped children | S6.1.2(a)(1)(i)(A) | Head 813 mm; Knee 915 mm | Attached with lap belt; in addition, it a tether is provided, it is attached.
Harnesses labeled per S5.3.1(b)(1) through S5.3.1(b)(3) and Figure 12 | S6.1.2(a)(1)(i)(A) | Head 813 mm; Knee 915 mm | Attached with seat back mount.
Belt-positioning seats | S6.1.2(a)(1)(ii) | Head 813 mm; Knee 915 mm | Attached with lap and shoulder belt; no tether is attached.
All other child restraints, manufactured before September 1, 1999 | S6.1.2(a)(1)(i)(B) | Head 813 mm; Knee 915 mm | Attached with lap belt; no tether is attached.
All other child restraints, manufactured on or after September 1, 1999 | S6.1.2(a)(1)(i)(B) | Head 813 mm; Knee 915 mm | Attached with lap belt; no tether is attached.
| S6.1.2(a)(1)(i)(D) (beginning September 1, 2002) |  | Attached to lower anchorages of child restraint anchorage system; no tether is attached.
| S6.1.2(a)(1)(i)(A) | Head 720 mm; Knee 915 mm | Attached with lap belt; in addition, if a tether is provided it is attached.
| S6.1.2(a)(1)(i)(C) (beginning September 1, 2002) |  | Attached to lower anchorages of child restraint anchorage system; in addition, if a tether is provided, it is attached.

* * * * *

S5.3.1 Add-on child restraints shall meet either (a) or (b), as appropriate.

(a) Except for components designed to attach to a child restraint anchorage system, each add-on child restraint system must not have any means designed for attaching the system to a vehicle seat cushion or vehicle seat back and any component (except belts) that is designed to be inserted between the vehicle seat cushion and vehicle seat back. Harnesses manufactured before February 1, 2003 that are manufactured for use on school bus seats are excluded from S5.3.1(a).

(b) Harnesses manufactured on or after February 1, 2003, but before December 1, 2003, for use on school bus seats must meet S5.3.1(a) of this standard, unless a label that conforms in content to Figure 12 and to the requirements of S5.3.1(b)(1) through S5.3.1(b)(3) of this standard is permanently affixed to the part of the harness that attaches the system to a vehicle seat back. Harnesses that are not labeled as required by this paragraph must meet S5.3.1(a).

(1) The label must be plainly visible when installed and easily readable.

(2) The message area must be white with black text. The message area must be no less than 20 square centimeters.

(3) The pictogram shall be gray and black with a red circle and slash on a white background. The pictogram shall be no less than 20 mm in diameter.

S5.3.2 Each add-on child restraint system shall be capable of meeting the requirements of this standard when installed solely by each of the means indicated in the following table for the particular type of child restraint system:

Type of add-on child restraint system | Means of Installation: Type 1 seat belt assembly | Means of Installation: Type 1 seat belt assembly plus a tether anchorage, if needed | Means of Installation: Child restraint anchorage system (effective September 1, 2002) | Means of Installation: Type II seat belt assembly | Means of Installation: Seat back mount
Harness labeled per S5.3.1(b)(1) through S5.3.1(b)(3) and Figure 12 |  |  |  |  | X
Other harnesses |  | X
Car beds | X
Rear-facing restraints | X |  | X
Belt-positioning seats |  |  |  | X
All other child restraints | X | X | X

* * * * *

S5.6.1.11 For harnesses that are manufactured on or after February 1, 2003, but before December 1, 2003, for use on school bus seats, the instructions must include the following statements:

WARNING! This restraint must only be used on school bus seats. Entire seat directly behind must be unoccupied or have restrained occupants.

* * * * *

S6.1.2 Dynamic test procedure.

(a) * * *

(1) * * *

(i) * * *

(A) Install the child restraint system at the center seating position of the standard seat assembly, in accordance with the manufacturer's instructions provided with the system pursuant to S5.6.1, except that the standard lap belt is used and, if provided, a tether strap may be used. For harnesses that bear the label shown in Figure 12 and that meet S5.3.1(b)(1) through S5.3.1(b)(3), attach the harness in accordance with the manufacturer's instructions provided with the system pursuant to S5.6.1, i.e., the seat back mount is used.

* * * * *

(d) * * *

(1) * * *

(ii) All Type 1 belt systems used to attach an add-on child restraint system to the standard seat assembly, and any provided additional anchorage belt (tether), are tightened to a tension of not less than 53.5 N and not more than 67 N, as measured by a load cell used on the webbing portion of the belt. All belt systems used to attach a harness that bears the label shown in Figure 12 and that meets S5.3.1(b)(1) through S5.3.1(b)(3) are also tightened to a tension of not less than 53.5 N and not more than 67 N, by measurement means specified in this paragraph.

* * * * *

BILLING CODE 4910-59-P

Issued on October 16, 2002.
Annette M. Sandberg,
Deputy Administrator.

[FR Doc. 02-26824 Filed 10-17-02; 4:00 pm]

BILLING CODE 4910-59-C